ENVIRONMENTAL PROTECTION AGENCY

[EPA-HQ-OPP-2017-0539; FRL-9972-11]

RIN 2070-AK37

Pesticides; Certification of Pesticide Applicators Rule; Reconsideration of the Minimum Age Requirements

AGENCY: Environmental Protection Agency (EPA).

ACTION: Notice.

SUMMARY: EPA is providing notice to the public that it has initiated a rulemaking process to revise the minimum age requirements in the Certification of Pesticide Applicators rule. EPA expects to publish a Notice of Proposed Rulemaking in FY 2018 to solicit public input on these proposed revisions to the rule. EPA is also announcing that the implementation dates in the January 4, 2017 Federal Register (82 FR 952) (FRL-9956-70); for certifying authorities to submit revised certification plans, and for EPA to act on those plans remain in effect; EPA has no plans to change those implementation dates.

FOR FURTHER INFORMATION CONTACT: Kevin Keaney, Field and External Affairs Division (7506P), Office of Pesticide Programs, Environmental Protection Agency, 1200 Pennsylvania Ave. NW, Washington, DC 20460; telephone number (703) 305-5557, email address: keaney.kevin@epa.gov.

SUPPLEMENTARY INFORMATION:

I. General Information

A. Does this action apply to me?

This document is directed to the public in general. However, this document may be of particular interest to you if you apply restricted use pesticides (RUPs), use RUPs under the direct supervision of a certified applicator; are a State, Tribe or Federal agency who administers a certification program for pesticide applicators; a pesticide safety educator; or another person who provides pesticide safety training for pesticide applicator certification or recertification. The following list of North American Industrial Classification System (NAICS) codes is not intended to be exhaustive, but rather provides a guide to help readers determine whether this document applies to them. Potentially affected entities may include:

• Agricultural Establishments (Crop Production) (NAICS code 111).

• Animal Production and Aquaculture). (NAICS code 112).

• Nursery and Tree Production (NAICS code 111421).

• Agricultural Pest Control and Pesticide Handling on Farms (NAICS code 115112).

• Crop Advisors (NAICS codes 115112, 541690, 541712).

• Agricultural (Animal) Pest Control (Livestock Spraying) (NAICS code 115210).

• Forestry Pest Control (NAICS code 115310).

• Wood Preservation Pest Control (NAICS code 321114).

• Pesticide Registrants (NAICS code 325320).

• Pesticide Dealers (NAICS codes 424690, 424910, 444220).

• Insurance Carriers and Related Activities (NAICS code 524).

• Research & Demonstration Pest Control, Crop Advisor (NAICS code 541710).

• Industrial, Institutional, Structural & Health Related Pest Control (NAICS code 561710).

• Ornamental & Turf, Rights-of-Way Pest Control (NAICS code 561730).

• Environmental Protection Program Administrators (NAICS code 924110).

• Governmental Pest Control Programs (NAICS code 926140).

If you have any questions regarding the applicability of this action to a particular entity, consult the technical person listed under FOR FURTHER INFORMATION CONTACT.

II. What action is the Agency taking?

In accordance with Executive Order 13777, titled Enforcing the Regulatory Reform Agenda, EPA solicited public comments on regulations that may be appropriate for repeal, replacement or modification as part of the President's Regulatory Reform Agenda efforts through docket [EPA-HQ-OA-2017-0190]. In addition, EPA issued several rules in 2017 to delay the effective date of the final certification rule including one issued on May 15, 2017 (82 FR 22294), that solicited public comment on a proposed 12-month delay of the effective date. Some of the comments received during that comment period included input on specific provisions of the revised Certification of Pesticide Applicators rule (82 FR 952; January 4, 2017) in addition to or instead of comments on the proposed 12-month delay of the effective date.

Through these efforts, EPA received comments on the minimum age requirements in the certification rule, which were discussed at the November 2, 2017, meeting of the Office of Pesticide Program's Federal Advisory Committee, the Pesticide Program Dialogue Committee (PPDC). A transcript of the PPDC meeting will be posted when available on EPA's website at https://www.epa.gov/pesticide-advisory-committees-and-regulatory-partners/pesticide-program-dialogue-committee-meeting-5.

After considering these comments, revisiting the record, and reviewing the applicable statutory authority, EPA has determined that further consideration of the rule's minimum age requirements is warranted through the rulemaking process. EPA is providing notice to the public that the Agency has begun the internal rulemaking process to address the minimum age requirements in the Certification of Pesticide Applicators rule at 40 CFR 171. EPA expects to publish a Notice of Proposed Rulemaking in FY 2018 to solicit public input on these proposed revisions to the Certification of Pesticide Applicators rule.

EPA is also announcing that the implementation dates in 40 CFR 171.5 of the final rule published on January 4, 2017, for certifying authorities to submit revised certification plans, and for EPA to act on those plans remain in effect; EPA has no plans to change those implementation dates. Therefore, if a certifying authority submits its modified certification plan by March 4, 2020, the existing approved certification plan remains in effect until EPA has approved or rejected the modified plan or March 4, 2022, whichever is earlier.

Authority: 7 U.S.C. 136-136y.

Dated: December 13, 2017.
Charlotte Bertrand,
Acting Principal Deputy Assistant Administrator, Office of Chemical Safety and Pollution Prevention.

[FR Doc. 2017-27302 Filed 12-18-17; 8:45 am]

BILLING CODE 6560-50-P